DEPARTMENT OF THE INTERIOR

Fish and Wildlife Service

50 CFR Part 17

[Docket No. FWS-R1-ES-2014-0025; 4500030113]

Endangered and Threatened Wildlife and Plants; 90-Day Finding on a Petition To List the Island Marble Butterfly as an Endangered Species

AGENCY: Fish and Wildlife Service, Interior.

ACTION: Notice of petition finding and initiation of status review.

SUMMARY: We, the U.S. Fish and Wildlife Service, announce our 90-day finding on a petition To list the island marble butterfly (Euchloe ausonides insulanus) as an endangered species under the Endangered Species Act of 1973 (Act), as amended. Based on our review, we find that the petition presents substantial scientific or commercial data indicating that the petitioned action may be warranted. Therefore, with the publication of this document, we are notifying the public that when resources become available, we will be conducting a review of the status of this subspecies to determine if the petitioned action is warranted. In order to assure that the best scientific and commercial data informs the status review and, if warranted, the subsequent listing determination, and to provide an opportunity for all interested parties to provide information for consideration for the status review, we are requesting information regarding the island marble butterfly. Based on the results of our status review, we will issue a 12-month finding on the petition, which will address whether the petitioned action is warranted, as provided in section 4(b)(3)(B) of the Act.

DATES: To allow us adequate time to conduct the status review, we request that we receive information no later than December 31, 2016. Information submitted electronically using the Federal eRulemaking Portal (see ADDRESSES, below) must be received by 11:59 p.m. Eastern Time on the closing date.

ADDRESSES: You may submit information by one of the following methods:

(1) Electronically: Go to the Federal eRulemaking Portal: http://www.regulations.gov. In the Search box, enter docket number FWS-R1-ES-2014-0025. You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By U.S. mail: Public Comments Processing, Attn: FWS-R1-ES-2014-0025; U.S. Fish and Wildlife Service Headquarters, MS: BPHC, 5275 Leesburg Pike, Falls Church, VA 22041-3803.

We request that you send information only by the methods described above. We will post all comments on http://www.regulations.gov. This generally means that we will post any personal information you provide us (see Request for Information).

FOR FURTHER INFORMATION CONTACT: Tom McDowell, Washington Fish and Wildlife Office, 510 Desmond Drive, Lacey, WA 98503; telephone 360-753-9440; facsimile 360-534-9331. Persons who use a telecommunications device for the deaf (TDD) may call the Federal Information Relay Service (FIRS) at 800-877-8339.

SUPPLEMENTARY INFORMATION:

Request for Information

When we make a finding that a petition presents substantial information indicating that listing a species may be warranted, we are required to promptly review the status of the species (status review; also commonly referred to as a “12-month finding”). For the status review to be complete and based on the best available scientific and commercial data, we request information on the island marble butterfly from governmental agencies, Native American tribes, the scientific community, industry, and any other interested parties. We seek information on:

(1) The subspecies' biology, range, and population trends, including:

(a) Habitat requirements;

(b) Genetics and taxonomy, with particular regard to the validity of the subspecies classification for Euchloe ausonides insulanus;

(c) Historical and current range, including distribution patterns;

(d) Historical and current population levels, and current and projected trends;

(e) Any relevant aspects of the life history or behavior of the island marble butterfly that has not yet been documented; and

(f) Past and ongoing conservation measures for the subspecies, its habitat, or both.

(2) The factors that are the basis for making a listing determination for a species under section 4(a)(1) of the Endangered Species Act of 1973 (Act), as amended (16 U.S.C. 1531 et seq.), which are:

(a) The present or threatened destruction, modification, or curtailment of its habitat or range (“Factor A”);

(b) Overutilization for commercial, recreational, scientific, or educational purposes (“Factor B”);

(c) Disease or predation (“Factor C”);

(d) The inadequacy of existing regulatory mechanisms (“Factor D”); or

(e) Other natural or manmade factors affecting its continued existence (“Factor E”).

(3) The potential effects of climate change on this subspecies or its habitat.

(4) Actions taken by landowners that would provide conservation benefits (short-term and long-term; e.g., the maintenance of home gardens with the requisite host or nectar plants to support the island marble butterfly in various life stages throughout the year) to the island marble butterfly.

If, after the status review, we determine that listing is warranted, we will propose critical habitat (see definition in section 3(5)(A) of the Act) under section 4 of the Act, to the maximum extent prudent and determinable at the time we propose to list the subspecies. Therefore, we also request data and information for the island marble butterfly on:

(1) What may constitute “physical or biological features essential to the conservation of the species,” within the geographical range occupied by the subspecies;

(2) Where these features are currently found;

(3) Whether any of these features may require special management considerations or protection;

(4) Specific areas outside the geographical area occupied by the subspecies that are “essential for the conservation of the species”; and

(5) What, if any, critical habitat you think we should propose for designation if the subspecies is proposed for listing, and why such habitat meets the requirements of section 4 of the Act.

Please include sufficient information with your submission (such as copies or references to scientific journal articles or other publications) to allow us to verify any scientific or commercial information you include.

Submissions merely stating support for or opposition to the actions under consideration without providing supporting information, although noted, will not be considered in making a determination. Section 4(b)(1)(A) of the Act directs that determinations as to whether any species is an endangered or threatened species must be made “solely on the basis of the best scientific and commercial data available.”

You may submit your information concerning this status review by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding will be available for you to review at http://www.regulations.gov, or you may make an appointment during normal business hours at the Washington Fish and Wildlife Office (see FOR FURTHER INFORMATION CONTACT).

Background

Section 4(b)(3)(A) of the Act requires that we make a finding on whether a petition to list, delist, or reclassify a species presents substantial scientific or commercial information indicating that the petitioned action may be warranted. We are to base this finding on information provided in the petition and supporting information submitted with the petition. To the maximum extent practicable, we are to make this finding within 90 days of our receipt of the petition and publish our notice of the finding in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to commence a review of the status of the species, which will be subsequently summarized in our 12-month finding.

Section 4 of the Act (16 U.S.C. 1533) and its implementing regulations at 50 CFR part 424 set forth the procedures for adding a species to, or removing a species from, the Federal Lists of Endangered and Threatened Wildlife and Plants. A species may be determined to be an endangered or threatened species due to one or more of the five factors described in section 4(a)(1) of the Act (see Request for Information).

In considering what factors might constitute threats, we must look beyond the exposure of the species to a factor to evaluate whether the species may respond to the factor in a way that causes actual impacts to the species. If there is exposure to a factor and the species responds negatively, the factor may be a threat and, during the status review, we attempt to determine how significant a threat it is. The threat is significant if it drives, or contributes to, the risk of extinction of the species such that the species may warrant listing as an endangered or threatened species as those terms are defined in the Act. However, the identification of factors that could impact a species negatively may not be sufficient to compel a finding that the information in the petition and our files is substantial. The information must include evidence sufficient to suggest that these factors may be operative threats that act on the species to the point that the species may meet the definition of an endangered or threatened species under the Act.

Review of Petition To List the Island Marble Butterfly as an Endangered Species Under the Act

Additional information regarding our review of this petition can be found at http://www.regulations.gov under Docket No. FWS-R1-ES-2014-0025 in the document labeled Appendix for Island Marble Butterfly.

Species and Range

This petition concerns the island marble butterfly (Euchloe ausonides insulanus), with a range in San Juan Island and Lopez Island, Washington, U.S.A.

Petition History

On December 11, 2002, we received a petition dated December 10, 2002, requesting that we emergency list the island marble butterfly as an endangered species, and that we designate critical habitat concurrently with the listing. On February 13, 2006, we published a 90-day finding in the Federal Register (71 FR 7497) concluding that the petition presented substantial scientific information indicating that listing the island marble butterfly may be warranted. On November 14, 2006, we published a notice of 12-month petition finding, concluding that the island marble butterfly did not warrant listing (71 FR 66292). Please see that 12-month finding for a complete summary of all previous Federal actions for this species.

On August 24, 2012, we received a petition dated August 22, 2012, from the Xerces Society for Invertebrate Conservation, requesting that the island marble butterfly be listed as an endangered species under the Act. The petition requested an emergency listing and emergency critical habitat designation. The petition clearly identified itself as such and included the requisite identification information for the petitioner, required at 50 CFR 424.14(a). This finding addresses the petition.

Finding

Based on our review of the petition and sources cited in the petition, we find that the petition presents substantial scientific or commercial information indicating that listing may be warranted for the island marble butterfly under section 4(a)(1) of the Act, based on factors A, C, and E (see Appendix for the Island Marble Butterfly). We therefore request information on the five listing factors under section 4(a)(1) of the Act, including the factors identified in this finding (see Request for Information).

Our review of the petition does not indicate that an emergency situation exists. However, if at any time conditions change and we determine emergency listing is necessary, an emergency rule may be developed.

Conclusion

On the basis of our evaluation of the information presented under section 4(b)(3)(A) of the Act, we have determined that the petition presents substantial scientific or commercial information indicating that listing the island marble butterfly as an endangered species may be warranted, and we are initiating a status review to determine whether this action is warranted. At the conclusion of our status review, we will issue a 12-month finding in accordance with section 4(b)(3)(B) of the Act. In that 12-month finding, the Service may: decide that the petitioned action is not warranted; decide that the petitioned action is warranted, but precluded; or decide that the petitioned action is warranted, and if so, promptly publish a proposed rule.

It is important to note that the “substantial information” standard for a 90-day finding differs from the Act's “best scientific and commercial data” standard that applies to a status review to determine whether a petitioned action is warranted. A 90-day finding does not constitute a status review under the Act. In a 12-month finding, we will determine whether a petitioned action is warranted after we have completed a thorough review of the species. Because the Act's standards for 90-day and 12-month findings are different, as described above, a substantial 90-day finding does not mean that the 12-month finding will result in a warranted finding.

References Cited

On http://www.regulations.gov, the docket for the island marble butterfly (FWS-R1-ES-2014-0025) contains the relevant appendix mentioned above. This appendix contains a complete list of references cited. The appendix is also available upon request from the Washington Fish and Wildlife Office (see FOR FURTHER INFORMATION CONTACT).

Authors

The primary authors of this notice are the staff members of the Washington Fish and Wildlife Office, U.S. Fish and Wildlife Service (see FOR FURTHER INFORMATION CONTACT).

Authority

The authority for these actions is the Endangered Species Act of 1973, as amended (16 U.S.C. 1531 et seq.).

Dated: August 5, 2014.
David Cottingham,
Acting Director, U.S. Fish and Wildlife Service.

[FR Doc. 2014-19560 Filed 8-18-14; 8:45 am]

BILLING CODE 4310-55-P